DEPARTMENT OF TRANSPORTATION

Federal Aviation Administration

14 CFR Part 39

[Docket No. FAA-2010-1006; Directorate Identifier 2009-CE-057-AD]

RIN 2120-AA64

Airworthiness Directives; Piper Aircraft, Inc. Model PA-28-161 Airplanes

AGENCY: Federal Aviation Administration (FAA), Department of Transportation (DOT).

ACTION: Notice of proposed rulemaking (NPRM).

SUMMARY: We propose to adopt a new airworthiness directive (AD) for all Piper Aircraft, Inc. (Piper) Model PA-28-161 airplanes equipped with Thielert Aircraft Engine GmbH (TAE) Engine Model TAE-125-01 installed per Supplemental Type Certificate (STC) No. SA03303AT. This proposed AD would require installing a full authority digital engine control (FADEC) backup battery, replacing the supplement pilot's operating handbook and FAA approved airplane flight manual, and revising the limitations section of the supplement airplane maintenance manual. This proposed AD results from an incident where an airplane experienced an in-flight engine shutdown caused by a momentary loss of electrical power to the FADEC. We are proposing this AD to prevent interruption of electrical power to the FADEC, which could result in an uncommanded engine shutdown. This failure could lead to a loss of engine power.

DATES: We must receive comments on this proposed AD by November 22, 2010.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Thielert Aircraft Engines Service GmbH, Platanenstraße 14, 09350 Lichtenstein, Deutschland; telephone: +49 (37204) 696-0; fax: +49 (37204) 696-1910; Internet: http://www.thielert.com/.

FOR FURTHER INFORMATION CONTACT: Don O. Young, Aerospace Engineer, FAA, Atlanta Aircraft Certification Office (ACO), 1701 Columbia Avenue, College Park, Georgia 30337; telephone: (404) 474-5585; fax: (404) 474-5606; e-mail: don.o.young@faa.gov.

SUPPLEMENTARY INFORMATION:

Comments Invited

We invite you to send any written relevant data, views, or arguments regarding this proposed AD. Send your comments to an address listed under the ADDRESSES section. Include the docket number, “FAA-2010-1006; Directorate Identifier 2009-CE-057-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

In 2007, a Diamond DA42 airplane experienced a dual in-flight engine shutdown. Our review of the incident determined the root cause was an unsafe design feature that allowed momentary interruption of electrical power to both engine FADECs. The interruption caused the FADECs to reset, shutting down both engines with a consequent loss of engine power. Piper Model PA-28-161 airplanes modified by STC No. SA03303AT have a similar unsafe design feature that can allow the FADEC to shut down or reset if the main battery is depleted and the electrical charging system malfunctions.

This condition, if not corrected, could result in an uncommanded engine shutdown. This failure could lead to a loss of engine power.

Relevant Service Information

We have reviewed Thielert Aircraft Engines GmbH Service Bulletin TM TAE 651-0007, Revision 7, dated July 30, 2010.

The service information describes procedures for installation of a FADEC backup battery.

FAA's Determination and Requirements of the Proposed AD

We are proposing this AD because we evaluated all information and determined the unsafe condition described previously is likely to exist or develop on other products of the same type design. This proposed AD would require installation of a FADEC backup battery, replacement of the supplement pilot's operating handbook and FAA approved airplane flight manual, and revision of the limitations section of the supplement airplane maintenance manual.

Costs of Compliance

We estimate that this proposed AD would affect zero airplanes in the U.S. registry.

We estimate the following costs to do the proposed modification:

Labor cost | Parts cost | Total cost per airplane | Total cost on U.S. operators
7 work-hours × $85 per hour = $595 | $780 | $1,375 | Not applicable.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Piper Aircraft, Inc.: Docket No. FAA-2010-1006; Directorate Identifier 2009-CE-057-AD.

Comments Due Date

(a) We must receive comments on this airworthiness directive (AD) action by November 22, 2010.

Affected ADs

(b) None.

Applicability

(c) This AD applies to Model PA-28-161 airplanes, all serial numbers, that are:

(1) Equipped with Thielert Aircraft Engine GmbH (TAE) Engine Model TAE-125-01 installed per Supplemental Type Certificate (STC) No. SA03303AT; and

(2) Certificated in any category.

Subject

(d) Air Transport Association of America (ATA) Code 72: Engine.

Unsafe Condition

(e) This AD results from an incident where an airplane experienced an in-flight engine shutdown caused by a momentary loss of electrical power to the FADEC. We are issuing this AD to prevent interruption of electrical power to the FADEC, which could result in an uncommanded engine shutdown. This failure could lead to a loss of engine power.

Compliance

(f) To address this problem, you must do the following, unless already done:

Actions | Compliance | Procedures
(1) Modify the engine electrical system by installing a backup battery system and associated wiring and circuitry. | Within the next 100 hours time-in-service after the effective date of this AD or within 30 days after the effective date of this AD, whichever occurs first. | Follow Thielert Aircraft Engines GmbH Service Bulletin TM TAE 651-0007, Revision 7, dated July 30, 2010.
(2) Revise the airworthiness limitations section to require repetitive replacement of the FADEC backup battery every 12 calendar months. Thereafter, except as provided in paragraph (g) of this AD, no alternative replacement times may be approved for this part. | Before further flight after doing the modification required in paragraph (f)(1) of this AD. | Incorporate Chapter 40-AMM-04-01 “Airworthiness Limitations, Revision 1”, dated January 25, 2010, of Thielert Aircraft Engines GmbH Supplement Airplane Maintenance Manual Piper PA28-161 TAE 125-01, Doc. No.: AMM-40-01 US-Version) Version: 1/1, into TAE Airplane Maintenance Manual Supplement, Piper PA28/TAE 125-01, AMM-40-01 (US-Version), Rev. Issue 1, dated February 3, 2006.
(3) Incorporate Thielert Aircraft Engines GmbH Supplement Pilot's Operating Handbook and FAA Approved Airplane Flight Manual, TAE-No.: 40-0310-40042, issue 2, revision 0, dated June 1, 2010, into the pilot's operating handbook. | Before further flight after doing the modification required in paragraph (f)(1) of this AD. | Not applicable.

Alternative Methods of Compliance (AMOCs)

(g) The Manager, Atlanta Aircraft Certification Office (ACO), FAA, has the authority to approve AMOCs for this AD, if requested using the procedures found in 14 CFR 39.19. Send information to ATTN: Don O. Young, Aerospace Engineer, FAA, Atlanta ACO, 1701 Columbia Avenue, College Park, Georgia 30337; telephone: (404) 474-5585; fax: (404) 474-5606; e-mail: don.o.young@faa.gov. Before using any approved AMOC on any airplane to which the AMOC applies, notify your appropriate principal inspector (PI) in the FAA Flight Standards District Office (FSDO), or lacking a PI, your local FSDO.

Related Information

(h) To get copies of the service information referenced in this AD, contact Thielert Aircraft Engines Service GmbH, Platanenstraße 14, 09350 Lichtenstein, Deutschland; telephone: +49 (37204) 696-0; fax: +49 (37204) 696-1910; Internet: http://www.thielert.com/. To view the AD docket, go to U.S. Department of Transportation, Docket Operations, M-30, West Building Ground Floor, Room W12-140, 1200 New Jersey Avenue, SE., Washington, DC 20590, or on the Internet at http://www.regulations.gov.

Issued in Kansas City, Missouri, on September 30, 2010.
John R. Colomy,
Acting Manager, Small Airplane Directorate, Aircraft Certification Service.

[FR Doc. 2010-25208 Filed 10-5-10; 8:45 am]

BILLING CODE 4910-13-P